DEPARTMENT OF ENERGY

Federal Energy Regulatory Commission

[Project No. 2851-024]

Cellu Tissue Corporation; Dunn Paper; Notice of Application for Transfer of License and Soliciting Comments, Motions to Intervene, and Protests

On June 18, 2015, Cellu Tissue Corporation (transferor) and Dunn Paper (transferee) filed an application for transfer of license of the Natural Dam Hydroelectric Project, FERC No. 2851. The project is located on the Oswegatchie River in St. Lawrence County, New York.

The applicants seek Commission approval to transfer the license for the Natural Dam Hydroelectric Project from the transferor to the transferee.

Applicant Contact: For Transferor: Mr. Jeremy Bartholomew, Cellu Tissue Corporation, 4921 Route 58N, Gouverneur, NY 13642, telephone: 315-287-7177. For Transferee: Mr. Greg Howe, Dunn Paper, 4921 Route 58N, Gouverneur, NY 13642, telephone: 315-287-7177.

FERC Contact: Patricia W. Gillis, (202) 502-8735.

Deadline for filing comments, motions to intervene, and protests: 15 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2851-024.

Dated: July 1, 2015..
Kimberly D. Bose,
Secretary.

[FR Doc. 2015-16993 Filed 7-10-15; 8:45 am]

BILLING CODE 6717-01-P